FEDERAL COMMUNICATIONS COMMISSION

Public Information Collection Requirement Submitted to OMB for Emergency Review and Approval

August 13, 2007.

SUMMARY: The Federal Communications Commission, as part of its continuing effort to reduce paperwork burden, invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 31, 2007. If you anticipate that you will be submitting comments, but find it difficult to do so within the period of time allowed by this notice, you should advise the contacts listed below as soon as possible.

ADDRESSES: Direct all PRA comments to Nicholas A. Fraser, Office of Management and Budget, via e-mail to Nicholas_A._Fraser@omb.eop.gov or via fax at 202-395-5167, and to the Federal Communications Commission via e-mail to PRA@fcc.gov or by U.S. mail to Jerry Cowden, Federal Communications Commission, Room 1-B135, 445 12th Street, SW., Washington, DC 20554.

FOR FURTHER INFORMATION CONTACT: For additional information contact Jerry Cowden via e-mail at PRA@fcc.gov or at 202-418-0447. If you would like to obtain or view a copy of this information collection you may do so by visiting the FCC PRA Web page at: http://www.fcc.gov/omd/pra.

SUPPLEMENTARY INFORMATION: The Commission is requesting emergency OMB processing of this information collection and has requested OMB approval by September 13, 2007.

OMB Control Number: None.

Title: Request to state and local public safety entities for information on equipment operating in affected portion of 700 MHz public safety spectrum.

Form No.: Not applicable.

Type of Review: New collection.

Respondents: State, Local, or Tribal Governments.

Number of Respondents: 94 respondents; 94 responses.

Estimated Time per Response: An average of 21 hours per response.

Frequency of Response: One time reporting requirement.

Obligation To Respond: Required to obtain a benefit.

Total Annual Burden: 1,974 hours.

Total Annual Cost: None.

Nature and Extent of Confidentiality: An assurance of confidentiality is not offered because this information collection does not require the collection of personally identifiable information (PII) from individuals.

Privacy Act Impact Assessment: Not applicable.

Needs and Uses: The Commission is seeking emergency processing of this information collection by September 13, 2007.

Pursuant to the Commission's 700 MHz Second Report and Order (FCC 07-132, released August 10, 2007), this information collection requires every 700 MHz Band public safety licensee, whether holding individual narrowband authorizations or operating pursuant to a State License, to provide the following information to the Commission: (1) The total number of narrowband mobile and portable handsets in operation in channels 63 and 68, and the upper one megahertz of channels 64 and 69, as of 30 days after the date of adoption of its 700 MHz Second Report and Order, (2) the total number of narrowband base stations serving these handsets in operation, (3) contact information for each identified set of handsets and base stations, as appropriate, (4) the areas of operation of the mobile and portable units (such as defined by the jurisdictional boundaries of the relevant public safety departments), and (5) the location, in latitude and longitude, of the base stations.

In order to create a nationwide, interoperable public safety broadband network, the 700 MHz Second Report and Order establishes a public safety band plan consistent with such a network. It consolidates narrowband operations in the upper twelve megahertz of the 700 MHz Public Safety band and designates the lower ten megahertz of that band solely for broadband communications. It also shifts the public safety spectrum block down by one megahertz in order to avoid interference problems along the border with Canada. This requires relocation of all public safety narrowband operations in channels 63 and 68, and the upper one megahertz of channels 64 and 69. The 700 MHz Second Report and Order requires the winner of Upper 700 MHz Band D Block license to pay the costs associated with relocating public safety narrowband operations to the consolidated channels. It also assigns responsibility to a newly created Public Safety Broadband Licensee to administer the relocation process consistent with the requirements and deadlines set forth in 700 MHz Second Report and Order. This information collection will identify the actual numbers of radios and base stations that the winner of the D Block license will be responsible for paying the costs of relocating.

Federal Communications Commission.
Jacqueline R. Coles,
Associate Secretary.

[FR Doc. E7-16157 Filed 8-15-07; 8:45 am]

BILLING CODE 6712-01-P